ENVIRONMENTAL PROTECTION AGENCY

40 CFR Part 300

[EPA-HQ-SFUND-1983-0002; FRL-9980-82—Region 10]

National Oil and Hazardous Substances Pollution Contingency Plan; National Priorities List: Deletion of the Frontier Hard Chrome, Inc. Superfund Site

AGENCY: Environmental Protection Agency.

ACTION: Final rule.

SUMMARY: The Environmental Protection Agency (EPA) Region 10 announces the deletion of the Frontier Hard Chrome, Inc. (FHC) Superfund Site (Site) located in Vancouver, Washington, from the National Priorities List (NPL). The NPL, promulgated pursuant to section 105 of the Comprehensive Environmental Response, Compensation, and Liability Act (CERCLA) of 1980, as amended, is an appendix of the National Oil and Hazardous Substances Pollution Contingency Plan (NCP). The EPA and the State of Washington, through the Department of Ecology, have determined that all appropriate response actions under CERCLA have been completed. However, this deletion does not preclude future actions under Superfund.

DATES: This action is effective August 6, 2018.

ADDRESSES:

Docket: EPA has established a docket for this action under Docket Identification No. EPA-HQ-SFUND-1983-0002. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories. Locations, contacts, phone numbers and viewing hours are:

Records Center, U.S. EPA Region 10, 1200 Sixth Avenue, Suite 155, Seattle, Washington, 206-553-4494, Monday through Friday, except Federal holidays, between 9:00 a.m. and 5:00 p.m.

Vancouver Community Library, 901 C Street, Vancouver, Washington, 360-906-5000, between 9:00 a.m. and 8:00 p.m. Monday to Thursday, or 10:00 a.m. and 6:00 p.m. Friday to Sunday.

FOR FURTHER INFORMATION CONTACT: Jeremy Jennings, Remedial Project Manager, U.S. Environmental Protection Agency, Region 10, 1200 Sixth Avenue, Suite 155, ECL-122, Seattle, Washington 98101-3123, telephone: 206-553-2724, email: jennings.jeremy@epa.gov.

SUPPLEMENTARY INFORMATION: The site to be deleted from the NPL is: Frontier Hard Chrome, Inc., Vancouver, Washington. A Notice of Intent to Delete for this Site was published in the Federal Register (83 FR 23409-23412) on May 21, 2018.

The closing date for comments on the Notice of Intent to Delete was June 20, 2018. One anonymous comment was received. The comment did not oppose deletion of the Site from the NPL, and included a non-Site specific gratuitous statement about the EPA Administrator. Since the comment was not adverse to the intended EPA action, there is no need to evaluate or respond. EPA continues to believe that the Site meets the National Contingency Plan deletion criteria, and is proceeding with deletion of the Site from the NPL. A Responsiveness Summary was prepared and placed in both the docket, EPA-HQ-SFUND-1983-0002, www.regulations.gov and in the site information repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Penalties, Reporting and recordkeeping requirements, Superfund, Water pollution control, Water supply.

Chris Hladick,
Regional Administrator, Region 10.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing the listing under Washington for “Frontier Hard Chrome, Inc”.

[FR Doc. 2018-16775 Filed 8-3-18; 8:45 am]

BILLING CODE 6560-50-P